DEPARTMENT OF COMMERCE

National Oceanic and Atmospheric Administration

Proposed Information Collection; Comment Request; Economic Value of Whale Watching in Stellwagen Bank National Marine Sanctuary

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 21, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Dr. Danielle Schwarzmann 240-533-0706 danielle.schwarzmann@noaa.gov.

SUPPLEMENTARY INFORMATION:

I. Abstract

This request is for a new information collection.

NOAA is conducting research to estimate the market and non-market economic values associated with whale watching in Stellwagen Bank National Marine Sanctuary (SBNMS) and the surrounding region.

The required information is to conduct surveys of the for hire-operations that take people out for non-consumptive recreation to watch whales or other wildlife, to obtain total use by type of activity (e.g. whale watching, and other wildlife observation) and the spatial use by type of activity. Information will also be obtained on the knowledge, attitudes, and perceptions of for-hire operations towards the sanctuary, sanctuary resources and sanctuary processes.

Surveys will also be conducted of the passengers of the for-hire operation boats to obtain their market and non-market economic use values for whales and other wildlife. Information collected from passengers will include their expenditures, number of trips, activities while visiting the sanctuary and non-market value for improvements to whales and other sanctuary resources. An on-site survey will obtain information on demographic profiles, annual number of whale watching trips in SBNMS, and their non-market economic use value for improvements to whales and sanctuary resources. Self-addressed, postage paid mail back questionnaires will be used for importance-satisfaction ratings and whale watching trip expenditures.

II. Method of Collection

The data from the operators will be collected by scheduling appointments to meet with the owner and conduct the survey in-person. For the passengers, surveys will be conducted at the docks after the completion of their whale watching trip and via mail.

III. Data

OMB Control Number: 0648-XXXX.

Form Number: None.

Type of Review: Regular submission (new information collection).

Affected Public: Individuals or households; businesses or other for-profit organizations.

Estimated Number of Respondents: 1,000 passengers on-site, 600 for importance-satisfaction mail back and 450 for the expenditure mailback; 40 owners of whale watching operations.

Estimated Time per Response: 20 minutes per on-site interview of passengers, 20 minutes per importance-satisfaction mail back and 20 minutes for the expenditure mail back. One hour per owner of whale watching operations.

Estimated Total Annual Burden Hours: 723.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 15, 2017.
Sarah Brabson,
NOAA PRA Clearance Officer.

[FR Doc. 2017-12777 Filed 6-19-17; 8:45 am]

BILLING CODE 3510-NK-P